DEPARTMENT OF THE INTERIOR

Fish and Wildlife Service

[FWS-R5-R-2009-N203; BAC-4311-K9-S3]

Rappahannock River Valley National Wildlife Refuge, Caroline, Essex, King George, Lancaster, Middlesex, Richmond, and Westmoreland Counties, VA

AGENCY: Fish and Wildlife Service, Interior.

ACTION: Notice of availability of final comprehensive conservation plan and finding of no significant impact for environmental assessment.

SUMMARY: We, the U.S. Fish and Wildlife Service (Service), announce the availability of our final comprehensive conservation plan (CCP) and finding of no significant impact (FONSI) for the environmental assessment (EA) for Rappahannock River Valley National Wildlife Refuge (NWR). In this final CCP, we describe how we will manage this refuge for the next 15 years.

ADDRESSES: You may view or obtain copies of the final CCP and FONSI by any of the following methods. You may request a hard copy or CD-ROM.

Agency Web Site: Download a copy of the document(s) at http://www.fws.gov/northeast/planning/Rappahannock/ccphome.html.

Electronic mail: northeastplanning@fws.gov. Include “Rappahannock final CCP” in the subject line of the message.

U.S. Postal Service: Joseph McCauley, Refuge Manager, Rappahannock River NWR Complex, 336 Wilna Road, Warsaw, VA 22572-1030.

In-Person Viewing or Pickup: Call 804-333-1470 to make an appointment during regular business hours at refuge headquarters in Warsaw, VA.

FOR FURTHER INFORMATION CONTACT: Joseph McCauley, Refuge Manager, Rappahannock River Valley NWR, 336 Wilna Road, Warsaw, VA 22572-1030; 804-333-1470 (phone); joseph_mccauley@fws.gov (electronic mail).

SUPPLEMENTARY INFORMATION:

Introduction

With this notice, we finalize the CCP process for Rappahannock River Valley NWR. We started this plan's development through a notice in the Federal Register (70 FR 65931) on November 1, 2005. We released the draft CCP/EA to the public, announcing and requesting comments in a notice of availability in the Federal Register (74 FR 36500) on July 23, 2009.

Rappahannock River Valley NWR, consisting of more than 7,700 acres, was established in 1996 to conserve and protect fish and wildlife resources, including endangered and threatened species, and wetlands. Refuge habitats include freshwater tidal marsh, forested swamp, upland deciduous forest, mixed pine forest, and managed grassland. One federally listed species, the threatened sensitive joint-vetch (Aeschynomene virginica), is found on the refuge. The State of Virginia's largest wintering population of bald eagles is located within the refuge boundary. Neotropical migratory songbirds, shorebirds, raptors, and marsh birds also rely on the Rappahannock River corridor during their spring and fall migrations. With help from partners and volunteers, we are restoring native grasslands and riparian forests along the river and its tributary streams to provide additional habitat for these important species.

Although wildlife and habitat conservation is the refuge's first priority, the public can observe and photograph wildlife, fish, hunt, or participate in environmental education and interpretation on several units of the refuge. The refuge contains three sites on the Virginia Birding and Wildlife Trail. The Wilna Unit, located in Richmond County, offers accessible fishing, excellent wildlife observation opportunities, and accessible nature trails. Other units of the refuge are open for visits by reservation.

We announce our decision and the availability of the FONSI for the final CCP for Rappahannock River Valley NWR in accordance with National Environmental Policy Act (NEPA) (40 CFR 1506.6(b)) requirements. We completed a thorough analysis of impacts on the human environment, which we included in the draft CCP/EA.

The CCP will guide us in managing and administering Rappahannock River Valley NWR for the next 15 years. Alternative B, as we described in the draft CCP/EA, is the foundation for the final CCP.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

CCP Alternatives, Including Selected Alternative

Our draft CCP/EA (74 FR 36500) addressed several key issues, including the amount of grasslands to manage, other priority habitat types to conserve, land protection and conservation priorities, improving the visibility of the Service and refuge, providing desired facilities and activities, and ways to improve opportunities for public use while ensuring the restoration and protection of priority resources.

To address these issues and develop a plan based on the purposes for establishing the refuge, and the vision and goals we identified, three alternatives were evaluated in the EA. The alternatives have some actions in common, such as protecting and monitoring federally listed species and the regionally significant bald eagle population, controlling invasive plants and wildlife diseases, encouraging research that benefits our resource decisions, protecting cultural resources, continuing to acquire land from willing sellers within our approved refuge boundary, and distributing refuge revenue-sharing payments to counties.

Other actions distinguish the alternatives. Alternative A, or the “No Action Alternative,” is defined by our current management activities. It serves as the baseline against which to compare the other two alternatives. Our habitat management and visitor services programs would not change under this alternative. We would continue to use the same tools and techniques, and not expand existing facilities.

Alternative B, the “Service-Preferred Alternative,” reflects a management emphasis on enhancing habitat diversity. Priorities under this alternative are protecting and restoring riparian and wetlands habitat, slightly expanding our grasslands management program on up to 1,200 acres, and improving the habitat quality in planted pine stands. Our public-use programs would improve and expand as a result of engaging partners to help us implement them. New trails would be constructed, fishing access would increase, and we would evaluate new opportunities for hunting waterfowl and wild turkey. A new refuge headquarters and visitor contact facility would also be constructed on refuge lands.

Alternative C resembles Alternative B in its proposal for facilities and public-use programs, but differs in its upland habitat management. Under Alternative C, we would allow the existing 700 acres of grasslands and old fields to revert to shrub and forest. Tree plantings, applying herbicides, and cutting or brush-hogging (mowing) would occur as necessary to achieve the desired results. Riparian and wetlands protection and restoration would be similar to Alternative B.

Comments

We solicited comments on the draft CCP/EA for Rappahannock River Valley NWR from July 23, 2009, to August 24, 2009 (74 FR 36500). We received comments from 47 individuals, organizations, and State and Federal agencies on our draft plan via electronic mail, phone, and letters. All comments we received were evaluated. A summary of those comments and our responses to them is included as Appendix G in the CCP.

Selected Alternative

After considering the comments we received on our draft CCP/EA, we have selected Alternative B for implementation for several reasons. Alternative B comprises the mix of actions that, in our professional judgment, works best towards achieving refuge purposes, our vision and goals, and the goals of other State and regional conservation plans. We also believe it most effectively addresses the key issues raised during the planning process. The basis of our decision is detailed in Appendix H of the CCP.

Public Availability of Documents

You can view or obtain documents as indicated under ADDRESSES.

Dated: December 30, 2009.
Dawn Comish,
Acting Regional Director, Northeast Region, U.S. Fish and Wildlife Service, Hadley, MA 01035.

[FR Doc. 2010-3051 Filed 2-17-10; 8:45 am]

BILLING CODE 4310-55-P